DEPARTMENT OF TRANSPORTATION

Federal Aviation Administration

14 CFR Part 39

[Docket No. FAA-2012-0331; Directorate Identifier 2011-NM-119-AD; Amendment 39-17008; AD 2012-07-02]

RIN 2120-AA64

Airworthiness Directives; Airbus Airplanes

AGENCY: Federal Aviation Administration (FAA), Department of Transportation (DOT).

ACTION: Final rule; request for comments.

SUMMARY: We are adopting a new airworthiness directive (AD) for all Airbus Model A340-500 and -600 series airplanes. This AD requires repetitive inspections of the forward and aft attachment fittings and of the swan neck for cracks, and replacing the attachment fittings and the swan neck with serviceable ones if necessary. This AD was prompted by reports of cracks on the forward attachment fittings of the left and right sides of the forward hinge of the nose landing gear (NLG) aft door. We are issuing this AD to detect and correct cracks of the forward attachment fittings and the swan neck, which could lead to the in-flight detachment of the NLG aft door and result in injury to persons on the ground or damage to the airplane.

DATES: This AD becomes effective April 20, 2012.

The Director of the Federal Register approved the incorporation by reference of the service information listed in the AD as of April 20, 2012.

We must receive comments on this AD by May 21, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

The European Aviation Safety Agency (EASA), which is the Technical Agent for the Member States of the European Community, has issued EASA Airworthiness Directive 2011-0088, dated May 13, 2011 (referred to after this as “the MCAI”), to correct an unsafe condition for the specified products. The MCAI states:

An operator has reported cracks on the aft hinge forward (FWD) fittings (hinge #5) of the NLG aft doors (Right Hand (RH) side or Left Hand (LH) side). The cracks extended by approximately 15 millimetres from the upper hole to the edge of the fittings.

Investigation has revealed that these cracks have initiated due to fatigue loads and propagated under bending load.

Cracks on the NLG aft door fittings, if not corrected, could lead to the inflight detachment of the door, possibly resulting in injury to persons on the ground or damage to the aeroplane.

In order to maintain the structural integrity of the NLG aft door aft hinge attachment fittings, EASA issued EASA AD 2010-0028 [which corresponds to FAA AD 2011-08-03, Amendment 39-16653 (71 FR 20496, April 13, 2011)], which requires repetitive inspections at hinge #5.

Additional investigations have shown that inspections are also necessary for the hinge #4.

For the reasons described above, this [EASA] AD requires repetitive [detailed] inspections of the FWD and AFT attachment fittings and [high frequency eddy current inspections] of the swan neck at the forward hinge #4 and their replacement, as necessary.

You may obtain further information by examining the MCAI in the AD docket.

Relevant Service Information

Airbus has issued Mandatory Service Bulletin A340-52-5017, including Appendices 1 and 2, dated February 17, 2011. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

Although the MCAI or service information allows further flight after cracks are found, paragraph (g) of this AD requires that you replace both the forward and aft fittings before further flight if any crack is found.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2012-0331; Directorate Identifier 2011-NM-119-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-07-02 Airbus: Amendment 39-17008. Docket No. FAA-2012-0331; Directorate Identifier 2011-NM-119-AD.

(a) Effective Date

This airworthiness directive (AD) becomes effective April 20, 2012.

(b) Affected ADs

None.

(c) Applicability

This AD applies to Airbus Model A340-541 and -642 airplanes, certificated in any category, all manufacturer serial numbers.

(d) Subject

Air Transport Association (ATA) of America Code 52: Doors.

(e) Reason

This AD was prompted by reports of cracks on the forward attachment fittings of the left and right sides of the forward hinge of the nose landing gear (NLG) aft door. We are issuing this AD to detect and correct cracks of the forward attachment fittings and the swan neck, which could lead to the in-flight detachment of the NLG aft door and result in injury to persons on the ground or damage to the airplane.

(f) Compliance

You are responsible for having the actions required by this AD performed within the compliance times specified, unless the actions have already been done.

(g) Repetitive Inspections and Corrective Action of the Forward and Aft Attachment Fittings of the Forward Hinge (#4) of the NLG Aft Door

Before the accumulation of 4,500 total flight cycles or within 50 flight cycles after the effective date of this AD, whichever occurs later: Do a detailed visual inspection for any cracking of the forward attachment fittings of the forward hinge (#4) of the NLG aft door of the left side and right side doors, in accordance with the Accomplishment Instructions of Airbus Mandatory Service Bulletin A340-52-5017, excluding Appendices 1 and 2, dated February 17, 2011.

(1) If no crack is found: Thereafter repeat the inspection required in paragraph (g) of this AD at intervals not to exceed 500 flight cycles.

(2) If any crack is found during any inspection required in paragraph (g) of this AD: Before further flight, replace both the forward and aft fittings with serviceable fittings on the forward hinge (#4) of the affected NLG aft door, in accordance with the Accomplishment Instructions of Airbus Mandatory Service Bulletin A340-52-5017, excluding Appendices 1 and 2, dated February 17, 2011.

(h) Action Requirement for Part Replacement of the Forward and Aft Attachment Fittings of the Forward Hinge (#4) of the NLG Aft Door

If any forward and aft attachment fittings of the forward hinge (#4) of the NLG aft door have been replaced as required in paragraph (g)(2) of this AD: Before the accumulation of 4,500 flight cycles on the forward fitting, do the inspection required in paragraph (g) of this AD.

(i) Repetitive Inspections and Corrective Actions of the Swan Neck of the Forward Hinge (#4) of the NLG Aft Door

Before the accumulation of 4,500 total flight cycles or within 50 flight cycles after the effective date of this AD, whichever occurs later: Perform a high frequency eddy current inspection for any cracking of the swan neck of the forward hinge (#4) of the NLG aft door of the left side and right side doors, in accordance with the Accomplishment Instructions of Airbus Mandatory Service Bulletin A340-52-5017, excluding Appendices 1 and 2, dated February 17, 2011.

(1) If no crack is found: Thereafter repeat the inspection required in paragraph (i) of this AD at intervals not to exceed 500 flight cycles.

(2) If any crack is found during any inspection required in paragraphs (i) of this AD: Before further flight, replace the swan neck with a serviceable swan neck on the forward hinge (#4) of the affected NLG aft door, in accordance with the Accomplishment Instructions of Airbus Mandatory Service Bulletin A340-52-5017, excluding Appendices 1 and 2, dated February 17, 2011.

(j) Action Requirement for Part Replacement of the Swan Neck of the Forward Hinge (#4) of the NLG Aft Door

If any swan neck of the NLG aft door forward hinge (#4) is replaced as specified in paragraph (i)(2) of this AD: Before the accumulation of 4,500 flight cycles on the swan neck, repeat the inspection required in paragraph (i) of this AD.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to Attn: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Special Flight Permits: Special flight permits, as described in Section 21.197 and Section 21.199 of the Federal Aviation Regulations (14 CFR 21.197 and 21.199), are not allowed.

(l) Related Information

Refer to Mandatory Continuing Airworthiness Information (MCAI) European Aviation Safety Agency Airworthiness Directive 2011-0088, dated May 13, 2011; and Airbus Mandatory Service Bulletin A340-52-5017, excluding Appendices 1 and 2, dated February 17, 2011; for related information.

(m) Material Incorporated by Reference

(1) You must use the following service information to do the actions required by this AD, unless the AD specifies otherwise. The Director of the Federal Register approved the incorporation by reference (IBR) of the following service information under 5 U.S.C. 552(a) and 1 CFR part 51:

(2) Airbus Mandatory Service Bulletin A340-52-5017, excluding Appendices 1 and 2, dated February 17, 2011.

(3) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on March 23, 2012.
Ali Bahrami,
Manager, Transport Airplane Directorate, Aircraft Certification Service.

[FR Doc. 2012-7848 Filed 4-4-12; 8:45 am]

BILLING CODE 4910-13-P